DEPARTMENT OF TRANSPORTATION

National Highway Traffic Safety Administration

Petition for Exemption from the Federal Motor Vehicle Motor Theft Prevention Standard; Isuzu

AGENCY: National Highway Traffic Safety Administration (NHTSA), Department of Transportation (DOT)

ACTION: Grant of petition for exemption.

SUMMARY: This document grants in full the petition of Isuzu Motors America, Inc. (Isuzu) for an exemption of a high-theft line, the Isuzu Axiom, from the parts-marking requirements of the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with model year (MY) 2003.

FOR FURTHER INFORMATION CONTACT: Ms. Rosalind Proctor, Office of Planning and Consumer Programs, NHTSA, 400 Seventh Street, SW., Washington DC 20590. Ms. Proctor's phone number is (202) 366-0846. Her fax number is (202) 493-2290.

SUPPLEMENTARY INFORMATION: In a petition dated January 24, 2002, Isuzu Motors America, Inc. (Isuzu), on behalf of Isuzu Motors Limited, Tokyo, Japan requested exemption from the parts-marking requirements of the theft prevention standard (49 CFR part 541) for the Isuzu Axiom vehicle line, beginning with MY 2003. The petition requested an exemption from parts-marking pursuant to 49 CFR part 543, Exemption from Vehicle Theft Prevention Standard, based on the installation of an antitheft device as standard equipment for the entire vehicle line.

Section 33106(b)(2)(D) of Title 49, United States Code, authorized the Secretary of Transportation to grant an exemption from the parts-marking requirements for not more than one additional line of a manufacturer for MYs 1997—2000. However, it does not address the contingency of what to do after model year 2000 in the absence of a decision under Section 33103(d). 49 U.S.C. § 33103(d)(3) states that the number of lines for which the agency can grant an exemption is to be decided after the Attorney General completes a review of the effectiveness of antitheft devices and finds that antitheft devices are an effective substitute for parts-marking. The Attorney General has not yet made a finding and has not decided the number of lines, if any, for which the agency will be authorized to grant an exemption. Upon consultation with the Department of Justice, we determined that the appropriate reading of Section 33103(d) is that the National Highway Traffic Safety Administration (NHTSA) may continue to grant parts-marking exemptions for not more than one additional model line each year, as specified for model years 1997-2000 by 49 U.S.C. 33106(b)(2)(C). This is the level contemplated by the Act for the period before the Attorney General's decision. The final decision on whether to continue granting exemptions will be made by the Attorney General at the conclusion of the review pursuant to Section 330103(d)(3).

Isuzu's submission is considered a complete petition as required by 49 CFR 543.7, in that it meets the general requirements contained in § 543.5 and the specific content requirements of § 543.6.

In its petition, Isuzu provided a detailed description and diagram of the identity, design, and location of the components of the antitheft device for the new vehicle line. Isuzu will install its antitheft device as standard equipment on the MY 2003 Isuzu Axiom carline. The antitheft device installed on the Isuzu Axiom includes both an audible and visual alarm and an engine immobilizer system.

The alarm system consists of the conventional ignition switch, alarm controller, door key switches, door lock switches, door switches, engine hood switch and horn. The normal locking of the vehicle door automatically activates the alarm system. In order to arm the device, the key must be removed from the ignition switch, all of the doors and engine hood must be closed and the driver's door must be locked with the ignition key. An indicator light within the vehicle informs the vehicle operator whether the device is armed, disarmed or alarmed.

Once armed, switches in the vehicle's doors, key cylinders and hood monitor the vehicle for unauthorized entry. Isuzu stated that all system components have been placed in inaccessible locations. If the device is armed and unauthorized entry is attempted by opening any of the doors or the engine hood, releasing the inside door lock knob, operating the inside engine hood release handle or the power door lock button, the antitheft device will be triggered. The alarm system will operate to sound the horn installed exclusively for this system and flash the headlights. The alarm will cycle for approximately three minutes and then shut down in order to prevent the battery from becoming discharged. Even if the alarm shuts down, the system will remain armed.

Unlocking either the driver's door or the tailgate door with the ignition key deactivates the antitheft device. Inserting the key in the ignition switch and rotating the key to the “ACC” position will also disarm the device. The remote control is used like the key to lock or unlock the vehicle door. The remote control will not take the place of the key. However, it can be used to lock and unlock the vehicle door, arm and disarm the alarm system, and deactivate the alarm.

The engine immobilizer system consists of an immobilizer electronic control unit (ECU), antenna coil, transponder, powertrain control module (PCM) and immobilizer security card.

Isuzu's antitheft device is activated when the driver/operator turns off the engine using the properly coded ignition key. When the ignition key is turned to the start position, the transponder (located in the head of the key) transmits a code to the powertrain's electronic control module. The vehicle's engine can only be started if the transponder code matches the code previously programmed into the powertrain's electronic control module. If the code does not match, the engine will be disabled. If the correct code is not transmitted to the electronic control module (accomplished only by having the correct key), there is no way to mechanically override the system and start the vehicle.

Isuzu stated that there are approximately seven quadrillion unique electrical key codes. The security code is a four-digit unique electronic number, which is written at the end of the Axiom production line on a “CAR PASS” card, which is handed over to the owner of the vehicle only. The security code should prevent the immobilizer ECU from being changed without the approval of the vehicle owner. Without this security code, a diagnostic tool has no access to important immobilizer functions or the transponder.

In order to ensure the reliability and durability of the device, Isuzu conducted tests based on its own specified standards conducted and stated its belief that the device is reliable and durable since it has complied with Isuzu's specified requirements for each test. Isuzu provided a detailed list of the component and on-line tests that were conducted: general performance, temperature and voltage combination tests, vibration tests, thermal shock, field decay, electromagnetic compatibility, corrosion resistance and high speed durability.

Isuzu reported that the proposed alarm system is identical to the system installed on the Acura SLX as standard equipment. The Acura SLX was granted an exemption from the parts marking requirements of the Federal Motor Vehicle Theft Prevention Standard beginning with the 1997 model year (96 FR 24852).

Additionally, Isuzu states the Axiom immobilizer is a system similar to the General Motors' “PASS-Key III” device installed on the MY 1997 Buick Park Avenue and MY 1998 Cadillac Seville vehicle lines. The agency granted the MY 1997 Buick Park Avenue and the MY 1998 Cadillac Seville a full exemption from the parts-marking requirements. The theft rates for the Buick Park Avenue are 0.4702, 1.2900 and 1.3021, respectively, in MYs 1997, 1998 and 1999. The theft rates for the Cadillac Seville are 1.6998 and 2.4141, respectively, in MYs 1998 and 1999. Isuzu contends that two lines have very low theft rates in spite of the fact that they are not equipped with audible or visible indicators to protect the vehicle against unauthorized entry. In further support of its request for petition for exemption, Isuzu also identified five other vehicle lines (Cadillac Deville, Pontiac Bonneville, Buick LeSabre, Oldsmobile Aurora, and Chevrolet Venture) that are all equipped with the PASS-Key III device and have been granted full exemptions from the parts-marking requirements.

On the basis of this comparison, Isuzu has concluded that the proposed antitheft device is no less effective than those devices installed on lines for which NHTSA has already granted full exemption from the parts-marking requirements.

Based on the evidence submitted by Isuzu, the agency believes that the antitheft device for the Isuzu Axiom vehicle line is likely to be as effective in reducing and deterring motor vehicle theft as compliance with the parts-marking requirements of the Theft Prevention Standard (49 CFR part 541).

The agency concludes that the device will provide the types of performance listed in “543.6(a)(3): Promoting activation; attracting attention to the efforts of unauthorized persons to enter or operate a vehicle by means other than a key; preventing defeat or circumvention of the device by unauthorized persons; preventing operation of the vehicle by unauthorized entrants; and ensuring the reliability and durability of the device.

As required by 49 U.S.C. 33106 and 49 CFR part 543.6(a)(4) and (5), the agency finds that Isuzu has provided adequate reasons for its belief that the antitheft device will reduce and deter theft. This conclusion is based on the information Isuzu provided about its antitheft device.

For the foregoing reasons, the agency hereby grants in full Isuzu's petition for an exemption for the MY 2003 Isuzu Axiom vehicle line from the parts-marking requirements of 49 CFR part 541. If Isuzu decides not to use the exemption for this line, it should formally notify the agency. If such a decision is made, the line must be fully marked according to the requirements under 49 CFR 541.5 and 541.6 (marking of major component parts and replacement parts).

NHTSA notes that if Isuzu wishes in the future to modify the device on which this exemption is based, the company may have to submit a petition to modify the exemption. § 543.7(d) states that a Part 543 exemption applies only to vehicles that belong to a line exempted under this part and equipped with the antitheft device on which the line's exemption is based. Further, § 543.9(c)(2) provides for the submission of petitions Ato modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: June 26, 2002.
Stephen R. Kratzke,
Associate Administrator for Safety Performance Standards.

[FR Doc. 02-16471 Filed 6-28-02; 8:45 am]

BILLING CODE 4910-59-P